DEPARTMENT OF TRANSPORTATION

Federal Aviation Administration

14 CFR Part 97

[Docket No. 30855; Amdt. No. 3490]

Standard Instrument Approach Procedures, and Takeoff Minimums and Obstacle Departure Procedures; Miscellaneous Amendments

AGENCY: Federal Aviation Administration (FAA), DOT.

ACTION: Final rule.

SUMMARY: This rule establishes, amends, suspends, or revokes Standard Instrument Approach Procedures (SIAPs) and associated Takeoff Minimums and Obstacle Departure Procedures for operations at certain airports. These regulatory actions are needed because of the adoption of new or revised criteria, or because of changes occurring in the National Airspace System, such as the commissioning of new navigational facilities, adding new obstacles, or changing air traffic requirements. These changes are designed to provide safe and efficient use of the navigable airspace and to promote safe flight operations under instrument flight rules at the affected airports.

DATES: This rule is effective August 20, 2012. The compliance date for each SIAP, associated Takeoff Minimums, and ODP is specified in the amendatory provisions.

The incorporation by reference of certain publications listed in the regulations is approved by the Director of the Federal Register as of August 20, 2012.

ADDRESSES: Availability of matters incorporated by reference in the amendment is as follows:

For Examination—

1. FAA Rules Docket, FAA Headquarters Building, 800 Independence Avenue SW., Washington, DC 20591;

2. The FAA Regional Office of the region in which the affected airport is located;

3. The National Flight Procedures Office, 6500 South MacArthur Blvd., Oklahoma City, OK 73169 or,

4. The National Archives and Records Administration (NARA). For information on the availability of this material at NARA, call 202-741-6030, or go to: http://www.archives.gov/federal_register/code_of_federal_regulations/ibr_locations.html.

Availability—All SIAPs and Takeoff Minimums and ODPs are available online free of charge. Visit http://www.nfdc.faa.gov to register. Additionally, individual SIAP and Takeoff Minimums and ODP copies may be obtained from:

1. FAA Public Inquiry Center (APA-200), FAA Headquarters Building, 800 Independence Avenue SW., Washington, DC 20591; or

2. The FAA Regional Office of the region in which the affected airport is located.

FOR FURTHER INFORMATION CONTACT: Richard A. Dunham III, Flight Procedure Standards Branch (AFS-420), Flight Technologies and Programs Divisions, Flight Standards Service, Federal Aviation Administration, Mike Monroney Aeronautical Center, 6500 South MacArthur Blvd., Oklahoma City, OK 73169 (Mail Address: P.O. Box 25082, Oklahoma City, OK 73125) Telephone: (405) 954-4164.

SUPPLEMENTARY INFORMATION: This rule amends Title 14 of the Code of Federal Regulations, Part 97 (14 CFR part 97), by establishing, amending, suspending, or revoking SIAPS, Takeoff Minimums and/or ODPS. The complete regulators description of each SIAP and its associated Takeoff Minimums or ODP for an identified airport is listed on FAA form documents which are incorporated by reference in this amendment under 5 U.S.C. 552(a), 1 CFR part 51, and 14 CFR 97.20. The applicable FAA Forms are FAA Forms 8260-3, 8260-4, 8260-5, 8260-15A, and 8260-15B when required by an entry on 8260-15A.

The large number of SIAPs, Takeoff Minimums and ODPs, in addition to their complex nature and the need for a special format make publication in the Federal Register expensive and impractical. Furthermore, airmen do not use the regulatory text of the SIAPs, Takeoff Minimums or ODPs, but instead refer to their depiction on charts printed by publishers of aeronautical materials. The advantages of incorporation by reference are realized and publication of the complete description of each SIAP, Takeoff Minimums and ODP listed on FAA forms is unnecessary. This amendment provides the affected CFR sections and specifies the types of SIAPs and the effective dates of the associated Takeoff Minimums and ODPs. This amendment also identifies the airport and its location, the procedure, and the amendment number.

The Rule

This amendment to 14 CFR part 97 is effective upon publication of each separate SIAP, Takeoff Minimums and ODP as contained in the transmittal. Some SIAP and Takeoff Minimums and textual ODP amendments may have been issued previously by the FAA in a Flight Data Center (FDC) Notice to Airmen (NOTAM) as an emergency action of immediate flight safety relating directly to published aeronautical charts. The circumstances which created the need for some SIAP and Takeoff Minimums and ODP amendments may require making them effective in less than 30 days. For the remaining SIAPS and Takeoff Minimums and ODPS, an effective date at least 30 days after publication is provided.

Further, the SIAPs and Takeoff Minimums and ODPS contained in this amendment are based on the criteria contained in the U.S. Standard for Terminal Instrument Procedures (TERPS). In developing these SIAPS and Takeoff Minimums and ODPs, the TERPS criteria were applied to the conditions existing or anticipated at the affected airports. Because of the close and immediate relationship between these SIAPs, Takeoff Minimums and ODPs, and safety in air commerce, I find that notice and public procedures before adopting these SIAPS, Takeoff Minimums and ODPs are impracticable and contrary to the public interest and, where applicable, that good cause exists for making some SIAPs effective in less than 30 days.

Conclusion

The FAA has determined that this regulation only involves an established body of technical regulations for which frequent and routine amendments are necessary to keep them operationally current. It, therefore—(1) Is not a “significant regulatory action” under Executive Order 12866; (2) is not a “significant rule” under DOT Regulatory Policies and Procedures (44 FR 11034; February 26,1979); and (3) does not warrant preparation of a regulatory evaluation as the anticipated impact is so minimal. For the same reason, the FAA certifies that this amendment will not have a significant economic impact on a substantial number of small entities under the criteria of the Regulatory Flexibility Act.

List of Subjects in 14 CFR Part 97

Air Traffic Control, Airports, Incorporation by reference, and Navigation (Air).

Issued in Washington, DC, on August 3, 2012.
Ray Towles,
Deputy Director, Flight Standards Service.

Adoption of the Amendment

Accordingly, pursuant to the authority delegated to me, Title 14, Code of Federal Regulations, Part 97 (14 CFR part 97) is amended by establishing, amending, suspending, or revoking Standard Instrument Approach Procedures and/or Takeoff Minimums and/or Obstacle Departure Procedures effective at 0902 UTC on the dates specified, as follows:

PART 97—STANDARD INSTRUMENT APPROACH PROCEDURES

1. The authority citation for part 97 continues to read as follows:

Authority: 49 U.S.C. 106(g), 40103, 40106, 40113, 40114, 40120, 44502, 44514, 44701, 44719, 44721-44722.

2. Part 97 is amended to read as follows:

Effective 20 September 2012

Reform, AL, North Pickens, RNAV (GPS) RWY 1, Orig

Reform, AL, North Pickens, RNAV (GPS) RWY 19, Amdt 1

Lake Havasu City, AZ, Lake Havasu City, RNAV (GPS) RWY 14, Orig

Ontario, CA, Ontario Intl, ILS OR LOC RWY 8L, Amdt 9

Sacramento, CA, Sacramento Intl, RNAV (GPS) Y RWY 34L, Amdt 1A

Sacramento, CA, Sacramento Intl, RNAV (GPS) Y RWY 34R, Orig-D

Sacramento, CA, Sacramento Intl, RNAV (RNP) Z RWY 16R, Orig

San Francisco, CA, San Francisco Intl, RNAV (GPS) RWY 28L, Amdt 2

San Francisco, CA, San Francisco Intl, RNAV (GPS) X RWY 10R, Orig-B, CANCELED

San Francisco, CA, San Francisco Intl, RNAV (GPS) Y RWY 10R, Amdt 1

San Francisco, CA, San Francisco Intl, RNAV (RNP) Z RWY 10R, Amdt 1

San Francisco, CA, San Francisco Intl, Takeoff Minimums and Obstacle DP, Amdt 8

San Jose, CA, Norman Y. Mineta San Jose Intl, ILS OR LOC/DME RWY 30L, ILS RWY 30L (SA CAT I), Amdt 22B

Watsonville, CA, Watsonville Muni, WATSONVILLE TWO Graphic DP

Aspen, CO, Aspen-Pitkin CO/Sardy Field, LOC/DME-E, Amdt 1B

Aspen, CO, Aspen-Pitkin CO/Sardy Field, RNAV (GPS)-F, Orig

Aspen, CO, Aspen-Pitkin CO/Sardy Field, VOR/DME-C, Amdt 5

Meeker, CO, Meeker, RNAV (GPS) RWY 3, Amdt 3

Pueblo, CO, Pueblo Memorial, ILS OR LOC/DME RWY 8L, Amdt 23

Pueblo, CO, Pueblo Memorial, ILS OR LOC/DME RWY 26R, Amdt 14

Pueblo, CO, Pueblo Memorial, VOR/DME RWY 26R, Amdt 28

Quincy, FL, Quincy Muni, RNAV (GPS) RWY 14, Orig, CANCELED

Quincy, FL, Quincy Muni, RNAV (GPS) RWY 32, Orig, CANCELED

Vero Beach, FL, Vero Beach Muni, RNAV (GPS) RWY 4, Amdt 1

Vero Beach, FL, Vero Beach Muni, RNAV (GPS) RWY 11R, Amdt 2

Vero Beach, FL, Vero Beach Muni, RNAV (GPS) RWY 22, Amdt 1

Vero Beach, FL, Vero Beach Muni, RNAV (GPS) RWY 29L, Amdt 2

Indianapolis, IN, Indianapolis Rgnl, Takeoff Minimums and Obstacle DP, Amdt 3

Wheaton, MN, Wheaton Muni, NDB OR GPS RWY 34, Amdt 1A, CANCELED

Wheaton, MN, Wheaton Muni, RNAV (GPS) RWY 16, Orig

Wheaton, MN, Wheaton Muni, RNAV (GPS) RWY 34, Orig

Lewistown, MT, Lewistown Muni, RNAV (GPS) RWY 26, Orig

Roundup, MT, Roundup, RNAV (GPS) RWY 7, Orig

Roundup, MT, Roundup, RNAV (GPS) RWY 25, Orig

Roundup, MT, Roundup, Takeoff Minimums and Obstacle DP, Orig

Wolf Point, MT, L M Clayton, NDB RWY 29, Amdt 4

Wolf Point, MT, L M Clayton, RNAV (GPS) RWY 11, Amdt 1

Wolf Point, MT, L M Clayton, RNAV (GPS) RWY 29, Amdt 1

Kearney, NE., Kearney Rgnl, VOR RWY 13, Amdt 2A

Middletown, NY, Randall, NDB RWY 26, Amdt 1A, CANCELED

Middletown, NY, Randall, RNAV (GPS) RWY 8, Amdt 1

Middletown, NY, Randall, RNAV (GPS) RWY 26, Amdt 1

Middletown, NY, Randall, Takeoff Minimums and Obstacle DP, Amdt 3

Middletown, NY, Randall, VOR RWY 8, Amdt 7

Millbrook, NY, Sky Acres, RNAV (GPS) RWY 17, Amdt 2

Saranac Lake, NY, Adirondack Rgnl, ILS OR LOC/DME Z RWY 23, Amdt 9

Saranac Lake, NY, Adirondack Rgnl, LOC Y RWY 23, Orig

Saranac Lake, NY, Adirondack Rgnl, RNAV (GPS) RWY 5, Amdt 1

Saranac Lake, NY, Adirondack Rgnl, RNAV (GPS) RWY 9, Orig

Saranac Lake, NY, Adirondack Rgnl, RNAV (GPS) RWY 23, Orig

Saranac Lake, NY, Adirondack Rgnl, Takeoff Minimums and Obstacle DP, Amdt 7

Saranac Lake, NY, Adirondack Rgnl, VOR RWY 9, Amdt 2

Saranac Lake, NY, Adirondack Rgnl, VOR/DME RWY 5, Amdt 4

Dayton, OH, Greene County-Lewis A. Jackson Rgnl, VOR RWY 7, Orig

Dayton, OH, Greene County-Lewis A. Jackson Rgnl, VOR RWY 25, Orig

Dayton, OH, Greene County-Lewis A. Jackson Rgnl, VOR-A, Orig, CANCELED

Lebanon, OH, Lebanon-Warren County, RNAV (GPS) RWY 1, Amdt 1

Lebanon, OH, Lebanon-Warren County, RNAV (GPS) RWY 19, Amdt 2

Lebanon, OH, Lebanon-Warren County, Takeoff Minimums and Obstacle DP, Amdt 1

Middletown, OH, Middletown Regional/Hook Field, NDB RWY 23, Amdt 9

Middletown, OH, Middletown Regional/Hook Field, NDB-A, Amdt 3

Middletown, OH, Middletown Regional/Hook Field, RNAV (GPS) RWY 5, Orig

Middletown, OH, Middletown Regional/Hook Field, RNAV (GPS) RWY 23, Orig

Middletown, OH, Middletown Regional/Hook Field, Takeoff Minimums and Obstacle DP, Amdt 2

Oklahoma City, OK, Will Rogers World, Takeoff Minimums and Obstacle DP, Amdt 1

Portland, OR, Portland Intl, ILS OR LOC RWY 10L, Amdt 4

Portland, OR, Portland Intl, ILS OR LOC RWY 10R, ILS RWY 10R (CAT II), ILS RWY 10R (CAT III), ILS RWY 10R (SA CAT I), Amdt 34B

Portland, OR, Portland Intl, ILS OR LOC RWY 28L, Amdt 3

Portland, OR, Portland Intl, ILS OR LOC RWY 28R, Amdt 15

Portland, OR, Portland Intl, RNAV (GPS) X RWY 28L, Amdt 2

Portland, OR, Portland Intl, RNAV (GPS) X RWY 28R, Amdt 2

Portland, OR, Portland Intl, RNAV (GPS) Y RWY 10L, Amdt 2

Portland, OR, Portland Intl, RNAV (GPS) Y RWY 10R, Amdt 2

Portland, OR, Portland Intl, RNAV (RNP) Y RWY 28L, Orig

Portland, OR, Portland Intl, RNAV (RNP) Y RWY 28R, Orig

Portland, OR, Portland Intl, RNAV (RNP) Z RWY 10L, Orig

Portland, OR, Portland Intl, RNAV (RNP) Z RWY 10R, Orig

Portland, OR, Portland Intl, RNAV (RNP) Z RWY 28L, Orig

Portland, OR, Portland Intl, RNAV (RNP) Z RWY 28R, Orig

Portland, OR, Portland Intl, Takeoff Minimums and Obstacle DP, Amdt 8

East Stroudsburg, PA, Stroudsburg-Pocono, RNAV (GPS) RWY 8, Orig

East Stroudsburg, PA, Stroudsburg-Pocono, VOR/DME-A, Amdt 6

Johnstown, PA, John Murtha Johnstown-Cambria Co, ILS OR LOC/DME RWY 33, Amdt 7

Johnstown, PA, John Murtha Johnstown-Cambria Co, RNAV (GPS) RWY 5, Amdt 2

Johnstown, PA, John Murtha Johnstown-Cambria Co, RNAV (GPS) RWY 23, Amdt 2

Philadelphia, PA, Philadelphia Intl, ILS PRM RWY 26 (SIMULTANEOUS CLOSE PARALLEL), Amdt 4, CANCELED

Philadelphia, PA, Philadelphia Intl, ILS PRM RWY 27L (SIMULTANEOUS CLOSE PARALLEL), Amdt 3, CANCELED

Pittsburgh, PA, Allegheny County, ILS OR LOC RWY 10, Amdt 6

Pittsburgh, PA, Allegheny County, ILS OR LOC RWY 28, Amdt 29

Pittsburgh, PA, Allegheny County, RNAV (GPS) RWY 10, Amdt 4

Dallas, TX, Collin County Rgnl at Mc Kinney, ILS OR LOC RWY 18, Amdt 4

Gainesville, TX, Gainesville Muni, NDB RWY 17, Amdt 9A, CANCELED

Liberty, TX, Liberty Muni, RNAV (GPS) RWY 16, Amdt 2

Midland, TX, Midland Intl, ILS OR LOC RWY 10, Amdt 15

Midland, TX, Midland Intl, LOC BC RWY 28 Amdt 13

Midland, TX, Midland Intl, RADAR-1, Amdt 6

Midland, TX, Midland Intl, RNAV (GPS) RWY 4, Amdt 1

Midland, TX, Midland Intl, RNAV (GPS) RWY 10, Amdt 2

Midland, TX, Midland Intl, RNAV (GPS) RWY 16R, Amdt 1

Midland, TX, Midland Intl, RNAV (GPS) RWY 22, Amdt 1

Midland, TX, Midland Intl, RNAV (GPS) RWY 28, Amdt 2

Midland, TX, Midland Intl, RNAV (GPS) RWY 34L, Amdt 1

Midland, TX, Midland Intl, Takeoff Minimums and Obstacle DP, Amdt 1

Midland, TX, Midland Intl, VOR/DME OR TACAN RWY 34L, Amdt 10

Midland, TX, Midland Intl, VOR OR TACAN RWY 16R, Amdt 23

Tyler, TX, Tyler Pounds Rgnl, ILS OR LOC RWY 13, Amdt 21

Tyler, TX, Tyler Pounds Rgnl, RNAV (GPS) RWY 4, Amdt 2

Tyler, TX, Tyler Pounds Rgnl, RNAV (GPS) RWY 13, Amdt 2

Tyler, TX, Tyler Pounds Rgnl, RNAV (GPS) RWY 22 Amdt 2

Tyler, TX, Tyler Pounds Rgnl, RNAV (GPS) RWY 31, Amdt 2

Tyler, TX, Tyler Pounds Rgnl, Takeoff Minimums and Obstacle DP, Amdt 1

Tyler, TX, Tyler Pounds Rgnl, VOR RWY 31, Amdt 2

Tyler, TX, Tyler Pounds Rgnl, VOR/DME RWY 4, Amdt 4

Tyler, TX, Tyler Pounds Rgnl, VOR/DME RWY 22, Amdt 4

Rutland, VT, Rutland-Southern Vermont Rgnl, ILS OR LOC/DME Y RWY 19, Orig

Rutland, VT, Rutland-Southern Vermont Rgnl, ILS OR LOC/DME Z RWY 19, Orig

Rutland, VT, Rutland-Southern Vermont Rgnl, LOC Y RWY 19, Amdt 3A, CANCELED

Rutland, VT, Rutland-Southern Vermont Rgnl, LOC Z RWY 19, Amdt 1D, CANCELED

Rutland, VT, Rutland-Southern Vermont Rgnl, RNAV (GPS) Y RWY 19, Amdt 2

Rutland, VT, Rutland-Southern Vermont Rgnl, RNAV (GPS) Z RWY 19, Orig

Rutland, VT, Rutland-Southern Vermont Rgnl, Takeoff Minimums and Obstacle DP, Amdt 4

Vancouver, WA, Pearson Field, Takeoff Minimums and Obstacle DP, Amdt 3

Spencer, WV, Boggs Field, RNAV (GPS) RWY 10, AMDT 1

Spencer, WV, Boggs Field, RNAV (GPS) RWY 28, AMDT 1

Spencer, WV, Boggs Field, Takeoff Minimums and Obstacle DP, Amdt 1

RESCINDED: On July 20, 2012 (77 FR 42627), the FAA published an Amendment in Docket No. 30851, Amdt No. 3486 to Part 97 of the Federal Aviation Regulations under section 97.33. The following 6 entries for Monticello, NY, effective 23 August, 2012, are hereby rescinded in their entirety:

Monticello, NY, Sullivan County Intl, ILS OR LOC RWY 15, Amdt 6

Monticello, NY, Sullivan County Intl, NDB RWY 15, Amdt 7, CANCELED

Monticello, NY, Sullivan County Intl, RNAV (GPS) RWY 15, Amdt 1

Monticello, NY, Sullivan County Intl, RNAV (GPS) RWY 33, Amdt 2

Monticello, NY, Sullivan County Intl, Takeoff Minimums and Obstacle DP, Amdt 1

Monticello, NY, Sullivan County Intl, VOR/DME RWY 33, Amdt 4

RESCINDED: On July 20, 2012 (77 FR 42627), the FAA published an Amendment in Docket No. 30851, Amdt No. 3486 to Part 97 of the Federal Aviation Regulations under section 97.33. The following 4 entries for Rifle, CO, and 1 entry for Plymouth, MA, effective 20 September, 2012, are hereby rescinded in their entirety:

Rifle, CO, Garfield County Rgnl, ILS RWY 26, Amdt 3

Rifle, CO, Garfield County Rgnl, LOC/DME-A, Amdt 9

Rifle, CO, Garfield County Rgnl, Takeoff Minimums and Obstacle DP, Amdt 10

Rifle, CO, Garfield County Rgnl, VOR/DME-C, Amdt 3

Plymouth, MA, Plymouth Muni, ILS OR LOC/DME RWY 6, Amdt 1B

[FR Doc. 2012-19863 Filed 8-17-12; 8:45 am]

BILLING CODE 4910-13-P